DEPARTMENT OF HEALTH AND HUMAN SERVICES

National Institutes of Health

National Human Genome Research Institute Amended Notice of Meeting

Notice is hereby given of a change in the meeting of the National Advisory Council for Human Genome Research, May 21, 2012, 8:30 a.m. to May 22, 2012, 5:00 p.m., National Institutes of Health, 5635 Fishers Lane, Terrace Level Conference Room, Rockville, MD, 20892 which was published in the Federal Register on January 19, 2012, 77FR2735.

The agenda has changed for May 21. Closed session 8:30 a.m. to 10:00 a.m., Open session 10:15 a.m. to 3:00 p.m., and Closed session 3:00 p.m to 5:00 p.m. The meeting is partially Closed to the public.

Dated: May 4, 2012.
Jennifer S. Spaeth,
Director, Office of Federal Advisory Committee Policy.

[FR Doc. 2012-11312 Filed 5-9-12; 8:45 am]

BILLING CODE 4140-01-P